DEPARTMENT OF ENERGY

Federal Energy Regulatory Commission

[Docket No. RP00-483-001]

Sabine Pipe Line LLC; Notice of Compliance Filing

May 8, 2002.

Take notice that on May 3, 2002, Sabine Pipe Line LLC (Sabine) tendered for filing as part of its FERC Gas Tariff, Original Volume No. 1, the following tariff sheets with an effective date of June 3, 2002:

First Revised Sheet No. 101 *

Original Sheet No. 101A *

First Revised Sheet No. 207

Original Sheet No. 207A

First Revised Sheet No. 208

Original Sheet No. 208A

First Revised Sheet No. 209 *

Original Sheet No 209A *

First Revised Sheet No. 210 *

First Revised Sheet No. 229

Original Sheet No. 229A

First Revised Sheet No. 233

Original Sheet No. 233A

First Revised Sheet No. 234 *

Original Sheet No. 234A

First Revised Sheet No. 237 *

First Revised Sheet No. 248A *

First Revised Sheet No. 249

Second Revised Sheet No. 252 *

Second Revised Sheet No. 253 *

Second Revised Sheet No. 254 *

Original Sheet No. 254A *

First Revised Sheet No. 266 *

Original Sheet No. 266A *

Second Revised Sheet No. 267 *

First Revised Sheet No. 267A *

First Revised Sheet No. 270 *

First Revised Sheet No. 470 *

Sabine states that the tariff sheets are being filed to comply with the Commission's April 3, 2002 order (April 3 Order) on Sabine's compliance with Order No. 637 in Docket Nos. RP00-483-000 and RP00-603-000. The tariff sheets incorporate all of the pro forma provisions approved by the April 3 Order and proposed changes to certain provisions as directed by the April 3 Order. Tariff sheets containing proposed changes are marked with an asterisk.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11999 Filed 5-13-02; 8:45 am]

BILLING CODE 6717-01-P